DEPARTMENT OF COMMERCE

Foreign-Trade Zones Board

[B-61-2014]

Foreign-Trade Zone 82—Mobile, Alabama, Authorization of Production Activity, Airbus Americas, Inc. (Commercial Passenger Aircraft) Mobile, Alabama

On August 21, 2014, the City of Mobile, Alabama, grantee of Foreign-Trade Zone 82, submitted a notification of proposed production activity to the Foreign-Trade Zones (FTZ) Board on behalf of Airbus Americas, Inc., within Site 1, in Mobile.

The notification was processed in accordance with the regulations of the FTZ Board (15 CFR part 400), including notice in the Federal Register inviting public comment (79 FR 52630, 09/04/2014). The FTZ Board has determined that no further review of the activity is warranted at this time. The production activity described in the notification is authorized, subject to the FTZ Act and the Board's regulations, including Section 400.14.

Dated: December 26, 2014.
Andrew McGilvray,
Executive Secretary.

[FR Doc. 2015-00111 Filed 1-7-15; 8:45 am]

BILLING CODE 3510-DS-P